DEPARTMENT OF ENERGY

Federal Energy Regulatory Commission

[Docket Nos. RP95-197-047 and RP97-71-039]

Transcontinental Gas Pipe Line Corporation; Notice of Compliance Filing

October 30, 2002.

Take notice that on October 15, 2002 Transcontinental Gas Pipe Line Corporation (Transco) tendered for filing as part of its FERC Gas Tariff, Third Revised Volume No. 1, certain revised tariff sheets listed on Appendix A attached to the filing, to be effective December 1, 2002.

Transco states that the purpose of the filing is to comply with the Commission's Order issued September 30, 2002 which directed Transco to file a separate Section 5 compliance filing to unbundle the costs associated with its Emergency Eminence Storage Withdrawal Service.

Transco states that copies of the filing are being mailed to all parties in Docket Nos. RP95-197, RP97-71 and RP01-245 and interested State Commissions.

Any person desiring to protest said filing should file a protest with the Federal Energy Regulatory Commission, 888 First Street, NE., Washington, DC 20426, in accordance with Section 385.211 of the Commission's Rules and Regulations. All such protests must be filed on or before November 8, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-28181 Filed 11-4-02; 8:45 am]

BILLING CODE 6717-01-P